DEPARTMENT OF TRANSPORTATION

Federal Highway Administration

Notice To Rescind a Notice of Intent and Draft Environmental Impact Statement: I-17 Corridor Improvement Study; Maricopa County, Arizona

AGENCY: Federal Highway Administration (FHWA), DOT.

ACTION: Notice to Rescind a Notice of Intent and Draft Environmental Impact Statement.

SUMMARY: The FHWA is issuing this notice to advise the public that we are rescinding the Notice of Intent (NOI) and Draft Environmental Impact Statement (EIS) for proposed freeway improvements along Interstate 17 (I-17) from the I-10/Maricopa Traffic Interchange to State Route (SR) 101L (Loop 101) within Maricopa County, Arizona. A NOI to prepare an EIS for the I-17 Corridor Improvement Study was published in the Federal Register on January 6, 2010.

FOR FURTHER INFORMATION CONTACT: Alan Hansen, Team Leader—Planning, Environment & Realty, Federal Highway Administration, 4000 North Central Avenue, Suite 1500, Phoenix, AZ 85012-3500, Telephone: (602) 382-8964, Email: alan.hansen@dot.gov.

SUPPLEMENTARY INFORMATION: On January 6, 2010, the FHWA, in cooperation with the Arizona Department of Transportation (ADOT), issued an NOI to prepare an EIS for proposed freeway improvements along I-17 from the I-10/Maricopa Traffic Interchange to SR 101L in Maricopa County, Arizona. The I-17 Corridor is located in the city of Phoenix, and the study area limits for the EIS consisted of approximately 21 miles of I-17.

A No-Build Alternative and Build Alternatives were being considered in the EIS for the Design Year 2035. The No-Build Alternative served as the baseline for the analysis conducted under the National Environmental Policy Act (NEPA). The proposed Build Alternatives involved the addition of a number of new travel lanes and a high occupancy vehicle lane in each direction along I-17.

The proposed widening of I-17 is included in the Regional Transportation Plan (RTP) and Transportation Improvement Plan (TIP) adopted by the Maricopa Association of Governments (MAG) Regional Council. However, MAG is considering modifications to some of the transportation improvements that are presently programmed in the RTP and TIP, including the I-17 widening. Therefore, the preparation of the EIS for the I-17 Corridor Improvement Study is being terminated. Any future transportation improvements in the I-17 Corridor will be determined through funding and project reprioritization by MAG. Any future actions will progress under a separate environmental review process, in accordance with all applicable laws and regulations.

(Catalog of Federal Domestic Assistance Program Number 20.205, Highway Planning and Construction. The regulations implementing Executive Order 12372 regarding intergovernmental consultation on Federal programs and activities apply to this program.)

Issued on August 19, 2013.
Karla S. Petty,
FHWA Division Administrator, Phoenix, AZ.

[FR Doc. 2013-20589 Filed 8-22-13; 8:45 am]

BILLING CODE P